FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 010071-031.

Title: Cruise Lines International Association Agreement.

Parties: American Cruise Lines, Inc.; American Hawaii Cruises; Carnival Cruise Lines; Celebrity Cruises, Inc.; Costa Cruise Lines; Crystal Cruises; Cunard Line; Disney Cruise Line; First European Cruises; Holland America Line; Mediterranean Shipping Cruises; Norwegian Coastal Voyage, Inc./Bergen Line Services; Norwegian Cruise Line; Orient Lines; Princess Cruises; Radisson Seven Seas Cruises; Regal Cruises; Royal Caribbean International; Royal Olympic Cruises; Seabourn Cruise Line; Silversea Cruises, Ltd.; and Windstar Cruises.

Filing Party: J. Michael Cavanaugh, Esq.; Holland & Knight, LLP; 2099 Pennsylvania Avenue, NW.; Suite 100; Washington, DC 20006.

Synopsis: The amendment would revise the amount of annual travel agency fees for affiliate travel agencies and specify that affiliate travel agencies may not offer agency affiliation to a potential travel agency affiliate or employee exclusively to obtain personal discounts and benefits or make inaccurate or false claims about the benefits of using CLIA's trademarks, name, logo, or identification card.

Agreement No.: 011917.

Title: PONL/MOL Space Charter Agreement.

Parties: P&O Nedlloyd Limited, P&O Nedlloyd B.V., and Mitsui O.S.K. Lines, Ltd.

Filing Party: Paul D. Coleman, Esq.; Hoppel, Mayer & Coleman; 1000 Connecticut Avenue, NW.; Washington, DC 20036.

Synopsis: Under the agreement, Mitsui will charter space from P&O Nedlloyd in the trade between U.S. East Coast ports and ports on the East Coast of South America, including ports in Venezuela and Colombia.

Agreement No.: 201113-005.

Title: Oakland/SSA LLC Preferential Assignment Agreement.

Parties: Port of Oakland and SSA Terminals, LLC.

Filing Party: Thomas D. Clark, Esq.; Assistant Port Attorney; Port of Oakland; 530 Water Street; Oakland, CA 94607.

Synopsis: The amendment deletes certain assigned premises from the underlying agreement.

By Order of the Federal Maritime Commission.
Dated: July 1, 2005.
Bryant L. VanBrakle,
Secretary.

[FR Doc. 05-13406 Filed 7-7-05; 8:45 am]

BILLING CODE 6730-01-P